DEPARTMENT OF THE INTERIOR

Bureau of Land Management

[LLNV010000.L19900000.EX0000; 09-08807; TAS: 14X1109]

Notice of Availability of Final Supplemental Environmental Impact Statement for the Betze Pit Expansion Project, Eureka and Elko Counties, NV

AGENCY: Bureau of Land Management, Interior.

ACTION: Notice of availability.

SUMMARY: In accordance with National Environmental Policy Act of 1969 (NEPA, 42 U.S.C. 4321 et seq. and 43 CFR 3809), the Bureau of Land Management (BLM), Elko District Office has prepared a Final Supplemental Environmental Impact Statement (SEIS) for Barrick Goldstrike Mine's proposed Betze Pit Expansion Project.

DATES: The BLM will issue a Record of Decision (ROD) on the proposed project after a minimum of 30 days following the Environmental Protection Agency's publication of a Notice of Availability of this Final SEIS in the Federal Register.

ADDRESSES: Copies of the SEIS (compact disk or hard copy) are available at the BLM Elko District Office, 3900 E. Idaho, Elko, Nevada during regular business hours of 7:30 a.m. to 4:30 p.m., Monday through Friday, except holidays. The SEIS is also available on-line at http://www.blm.gov/nv/st/en/fo/elko_field_office.html, Elko District Office.

FOR FURTHER INFORMATION CONTACT: Kirk Laird, (775) 753-0200.

SUPPLEMENTARY INFORMATION: The Betze Pit Expansion Project is an amendment to the mine plan for the Betze Project, an ongoing open pit gold mine on the Carlin Trend in Eureka and Elko counties. The proposed mine plan amendment includes expanding the existing open pit and constructing a new waste rock facility and a new tailings facility. Current mining operations at the Betze Project are expected to end in 2011, with processing operations ending in 2020. The proposed Betze Pit Expansion Project would extend mining for 4 years and processing for an additional 5 years. Alternatives developed and analyzed in the SEIS include expanding the existing Bazza Waste Rock Facility (instead of constructing the proposed Clydesdale Waste Rock Facility) and the No Action alternatives. Alternatives considered but eliminated from detailed analysis include mining by underground methods rather than open pit, modifying the proposed Clydesdale Waste Rock Facility or constructing an offsite waste rock facility to reduce impacts to deer migration corridors, and a reduced tailings facility alternative. Mitigation measures, including reclamation scheduling to maintain a deer migration corridor, and designed landscape reclamation of the proposed Clydesdale Waste Rock Facility, were adopted by the proponent during the process, becoming part of the proposed action.

The Draft SEIS was released for public review on August 22, 2008, for a 45-day comment period, and a public comment meeting was held in Elko, Nevada on September 10, 2008. The Final SEIS is published in an abbreviated format, and includes comments on the Draft SEIS and BLM's responses along with resultant changes in the document.

The documents will be available at http://www.blm.gov/nv/st/en/fo/elko_field_office.html, Elko District Office for at least 30-days, after which BLM will issue a Record of Decision on the proposed mine expansion.

(Authority: 43 CFR 3809)

Kenneth E. Miller,
District Manager, Elko.

[FR Doc. E9-6768 Filed 3-26-09; 8:45 am]

BILLING CODE 4310-HC-P